DEPARTMENT OF ENERGY

Federal Energy Regulatory Commission

[Docket Nos. ER02-602-000, ER02-371-001, ER01-2658-000, ER01-2977-000 and ER01-2980-000]

American Electric Power Service Corporation; Notice of Initiation of Proceeding and Refund Effective Date

February 15, 2002.

Take notice that on February 14, 2002, the Commission issued an order in the above-indicated dockets initiating a proceeding in Docket No. ER02-371-001 under section 206 of the Federal Power Act.

The refund effective date in Docket No. ER02-371-001 will be 60 days after publication of this notice in the Federal Register.

Magalie R. Salas,
Secretary.

[FR Doc. 02-4165 Filed 2-20-02; 8:45 am]

BILLING CODE 6717-01-P